DEPARTMENT OF THE INTERIOR

Bureau of Land Management

[A2407-014-004-065516; #O2412-014-004-047181.1]

Intent To Amend the Resource Management Plan for the Buffalo Field Office, Wyoming, and Prepare an Associated Environmental Assessment

AGENCY: Bureau of Land Management, Interior.

ACTION: Notice of intent.

SUMMARY: In compliance with the National Environmental Policy Act of 1969, as amended (NEPA), and the Federal Land Policy and Management Act of 1976, as amended, the Bureau of Land Management (BLM) Wyoming State Director intends to prepare a resource management plan (RMP) amendment with an associated environmental assessment (EA) for the Buffalo Field Office. This notice announces the beginning of the scoping period to solicit public comments, identify issues, provide the planning criteria for public review, and solicit coal resource and development potential data.

DATES: To be considered, your comments concerning the scope of the analysis, potential alternatives, and identification of relevant information and studies must be received by August 7, 2025.

ADDRESSES: You may submit comments on issues, coal data, and planning criteria related to the Buffalo Field Office RMP amendment and associated EA by any of the following methods:

• Website: https://eplanning.blm.gov/eplanning-ui/project/2039033/510.

• Mail: Buffalo Field Office, 1425 Fort Street, Buffalo, WY 82834.

Documents pertinent to this proposal may be examined online at https://eplanning.blm.gov/eplanning-ui/project/2039033/510 and at the Buffalo Field Office.

FOR FURTHER INFORMATION CONTACT: Thomas Bills, Planning and Environmental Coordinator, telephone: (307) 684-1133; email: tbills@blm.gov; address: 1425 Fort Street, Buffalo, WY 82834. Contact Mr. Bills to have your name added to our mailing list. Individuals in the United States who are deaf, deafblind, hard of hearing, or have a speech disability may dial 711 (TTY, TDD, or TeleBraille) to access telecommunications relay services for contacting Mr. Bills. Individuals outside the United States should use the relay services offered within their country to make international calls to the point-of-contact in the United States.

SUPPLEMENTARY INFORMATION: The BLM Wyoming State Director intends to prepare an RMP amendment with an associated EA for the Buffalo Field Office RMP. This notice announces the beginning of the scoping process and seeks public input on issues and planning criteria and on coal resource and development potential. The RMP amendment may change the existing Buffalo Field Office RMP. The planning area is located within Campbell County, Wyoming, and encompasses approximately 496,314 surface acres and 481,000 acres of Federal coal mineral estate.

Purpose and Need

The purpose and need of this RMP amendment and EA is to evaluate coal allocations in the planning area and to determine the availability of lands acceptable for further consideration for coal leasing in accordance with Executive Order (“E.O.”) 14154, “Unleashing American Energy” (90 FR 8353, Jan. 29, 2025); E.O. 14156, “Declaring a National Energy Emergency” (90 FR 8433, Jan. 29, 2025); E.O. 14148, “Initial Rescissions of Harmful Executive Orders and Actions” (90 FR 8237, Jan. 28, 2025); and Secretary's Order 3418, which implements E.O. 14154.

Preliminary Alternatives

The RMP amendment/EA will include two alternatives varying the amount of BLM-administered Federal coal authorized to be available for leasing. The preliminary alternatives are the coal allocation decisions from: (1) The 2024 approved RMP amendment/record of decision making zero acres of BLM-administered Federal coal within the planning area available for further consideration for coal leasing (No Action/current decision); and (2) The 2019 approved RMP amendment/record of decision making 481,000 acres of BLM-administered Federal coal within the planning area available for further consideration of leasing (Proposed Action). The BLM welcomes comments on all preliminary alternatives as well as suggestions for additional alternatives.

Planning Criteria

The planning criteria guide the planning effort and lay the groundwork for effects analysis by identifying the preliminary issues and their analytical frameworks. Preliminary issues for the planning area were consistent in the 2019 and 2024 RMP amendments and are being considered as preliminary issues for this RMP amendment/EA. The BLM requests that industry, State, Tribal, and local governments, and the public interested in coal management in the planning areas provide the BLM relevant coal resource data that can help inform this project. Specifically, the BLM requests information on the development potential (e.g., location, quality, and quantity) of the BLM-administered Federal coal mineral estate, and on surface resource values related to multiple use conflicts and the suitability of the planning area for coal development.

We will use this information to complete the RMP amendment and EA consistent with 43 CFR 3420.1-4 and to formulate alternatives that identify areas acceptable for further leasing consideration. We are requesting these data to ensure that these planning efforts have sufficient information and data to consider a reasonable range of resource uses, management options, and alternatives for managing BLM-administered Federal coal mineral estate. Proprietary data marked as confidential may be submitted in response to this call for coal and other resource information. Please submit all proprietary information to the appropriate Field Manager listed in ADDRESSES above. The BLM will treat submissions marked as “Confidential” in accordance with the laws and regulations governing the confidentiality of such information. The planning criteria are available for public review and comment at the ePlanning website (see ADDRESSES).

Public Scoping Process

This notice of intent initiates the scoping period, call for coal data, and public review of the planning criteria, which guide the development and analysis of the RMP amendment and EA.

The BLM does not intend to hold any public meetings, in-person or virtual, during the public scoping period. Should the BLM later determine to hold public meetings, the specific date(s) and location(s) of any meeting will be announced at least 15 days in advance through local media, newspapers, ePlanning project page, and the BLM website.

Interdisciplinary Team

The BLM will use an interdisciplinary approach to develop the plan in order to consider the variety of resource issues and concerns identified. Specialists with expertise in the following disciplines will be involved in this planning effort: air resources, planning, rangeland management, minerals and geology, outdoor recreation, archaeology, paleontology, wildlife and fisheries, lands and realty, hydrology, soils, and economics.

Additional Information

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed plan will assist the BLM in identifying and evaluating impacts to such resources.

The BLM will consult with federally recognized Tribes on a government-to-government basis in accordance with E.O. 13175, BLM MS 1780, and other Departmental policies. Tribal concerns, including impacts on Indian trust assets and potential impacts to cultural resources, will be given due consideration. Federal, State, and local agencies, along with federally recognized Tribes and other stakeholders that may be interested in or affected by the proposed Buffalo RMP amendment that the BLM is evaluating, are invited to participate in the scoping.

Before including your address, phone number, email address, or other personal identifying information in your comment, you should be aware that your entire comment—including your personal identifying information—may be made publicly available at any time. While you can ask us in your comment to withhold your personal identifying information from public review, we cannot guarantee that we will be able to do so.

(Authority: 43 CFR 46.435 and 43 CFR 1610.2)

Kristina Kirby,
State Director (Acting).

[FR Doc. 2025-12672 Filed 7-7-25; 8:45 am]

BILLING CODE 4331-26-P